INTERNATIONAL TRADE COMMISSION

[Investigation No. 337-TA-1039]

Certain Electronic Devices, Including Mobile Phones, Tablet Computers, and Components Thereof; Notice of a Commission Determination Not To Review an Initial Determination Granting a Joint Motion To Terminate the Investigation Based on a Settlement Agreement; Termination of the Investigation

AGENCY: U.S. International Trade Commission.

ACTION: Notice.

SUMMARY: Notice is hereby given that the U.S. International Trade Commission has determined not to review an initial determination (“ID”) (Order No. 30) of the presiding administrative law judge (“ALJ”) granting a joint motion to terminate the above-captioned investigation in its entirety based on a Settlement Agreement and Related Agreements.

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on January 27, 2017, based on a complaint filed on behalf of Nokia Technologies Oy (“Nokia”) of Espoo, Finland. 82 FR 8626 (Jan. 27, 2017). The complaint alleges violations of section 337 of the Tariff Act of 1930, as amended, 19 U.S.C. 1337, by reason of infringement of certain claims of U.S. Patent Nos. 7,415,247; 9,270,301; 6,393,260; and 6,826,391. The complaint further alleges that a domestic industry exists. The Commission's notice of investigation named as respondent Apple Inc., a/k/a Apple Computer, Inc. (“Apple”) of Cupertino, California. The Office of Unfair Import Investigations (“OUII”) is also participating in the investigation. This investigation was severed from Inv. No. 337-TA-1038. See Inv. No. 337-TA-1038, Order No. 1 (Jan. 26, 2017).

On June 9, 2017, Nokia and Apple filed a joint motion to terminate the investigation based on a Settlement Agreement and Related Agreements. OUII filed a response indicating that it does not oppose the motion once Nokia and Apple file a revised public version of the motion and accompanying agreements. On June 21, 2017, the ALJ ordered the parties to file a revised public version of all of the agreements. See Order No. 26 (June 21, 2017). That same day, the ALJ issued Order No. 27, granting the motion and certifying the confidential version of the agreements to the Commission. Nokia and Apple jointly submitted revised public versions of the agreements on June 30, 2017, and July 7, 2017. On July 19, 2017, the Commission determined to review Order No. 27, because the revised public versions of the agreements did not comply with Commission Rules 210.21(b) and 201.6. The Commission remanded the investigation to the ALJ to require the parties to file an updated public version of the agreements.

On August 1, 2017, Nokia and Apple filed an updated public version of the agreements. On August 4, 2017, the ALJ issued the subject ID (Order No. 30) granting the parties' June 9, 2017 motion to terminate and certified the confidential and public versions of the agreements to the Commission. On August 14, 2017, the ALJ issued a public version of the subject ID.

No petitions for review were filed. The Commission has determined not to review the ID.

The authority for the Commission's determination is contained in section 337 of the Tariff Act of 1930, as amended, 19 U.S.C. 1337, and in part 210 of the Commission's Rules of Practice and Procedure, 19 CFR part 210.

By order of the Commission.
Issued: August 23, 2017.
William R. Bishop,
Supervisory Hearings and Information Officer.

[FR Doc. 2017-18140 Filed 8-25-17; 8:45 am]

BILLING CODE 7020-02-P